DEPARTMENT OF VETERANS AFFAIRS

Privacy Act of 1974; System of Records

AGENCY: Department of Veterans Affairs (VA).

ACTION: Notice of Amendment of Systems of Records Notice “Veterans Assistance Discharge System—VA” (45VA21).

SUMMARY: As required by the Privacy Act of 1974, 5 U.S.C. 552a(e)(4), notice is hereby given that the Department of Veterans Affairs (VA) proposes to update system of records, “Veterans Assistance Discharge System—VA” (45VA21). VA is amending the system of records by revising the Purpose(s), System Manager and address, and Routine Uses of Records Maintained in the System. VA is republishing the system notice in its entirety.

DATES: Comments on this amended system of records must be received no later than November 5, 2010. If no public comment is received during the period allowed for comment or unless otherwise published in the Federal Register by VA, the amended system will become effective November 5, 2010.

ADDRESSES: Written comments may be submitted through www.Regulations.gov; by mail or hand-delivery to Director, Regulation Policy and Management (02REG), Department of Veterans Affairs, 810 Vermont Avenue, NW., Room 1068, Washington, DC 20420; or by fax to 202-273-9026. (This is not a toll free number.) Copies of comments received will be available for public inspection in the Office of Regulation Policy and Management, Room 1063B, between the hours of 8 a.m. and 4:30 p.m. Monday through Friday (except holidays). Please call 202-461-4902 for an appointment. (This is not a toll free number.) In addition, during the comment period, comments may be viewed online through the Federal Docket Management System (FDMS) at https://www.Regulations.gov.

FOR FURTHER INFORMATION CONTACT: Thomas J. Murphy, Director Compensation and Pension Service, Veterans Benefits Administration (VBA), Department of Veterans Affairs, 810 Vermont Avenue, NW., Washington DC 20420, 202-461-9700.

SUPPLEMENTARY INFORMATION:

I. Description of Proposed Systems of Records

This system will collect a limited amount of personally identifiable information in order to provide service to Veterans, service members, reservists, and their spouses, surviving spouses, and dependents, who file claims for a wide variety of Federal veteran's benefits administered by VA at VA facilities located throughout the nation. See the statutory provisions cited in “Authority for maintenance of the system”. VA gathers or creates these records in order to enable it to administer these statutory benefits programs.

The Department of Veterans Affairs notices for systems of records subject to the Privacy Act of 1974 (5 U.S.C. 552a), as amended, have been published in the Federal Register and are available from the address above.

In this system of records the name and address of the System Owner has been updated for accuracy. The Purpose in this system of records is being revised to provide explanation for the information collection and list affected individuals.

The notice of amendment and an advance copy of the system notice have been sent to the appropriate Congressional committees and to the Director of Office of Management and Budget (OMB) as required by 5 U.S.C. 552a(r) and guidelines issued by OMB (65 FR 77677, December 12, 2000).

II. Proposed Routine Use Disclosures of Data in the System

The routine uses of records maintained in the system, including categories of users and the purposes of such uses, are being amended to protect the confidentiality and govern the release of VA records subject to 38 U.S.C. 5701, which permits disclosure in accordance with valid routine uses. Routine use numbers 15, 16, 17, 18, 19, 20 and 21 have been added to conform in accordance with this authority.

Routine use number 1 has been revised to require that individuals covered by this system provide written requests for disclosures to be made to members of Congress or their staff. Routine use 15 was added to allow for the disclosure of information to the National Archives and Records Administration (NARA) and the General Services Administration (GSA) in records management inspections conducted under authority of chapter 29 of title 44, United States Code. Routine use 16 was added to allow for the disclosure of information in this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its on initiative, may disclose records in this system of records in legal proceedings before a court or administrative body after determining that the disclosure of records to the court or administrative body is a use of the information contained in the records that is compatible with the purpose for which VA collected the records. Routine use 17 was added to allow for the disclosure of information to individuals, organizations, public or private agencies, or other entities with whom VA has a contract or agreement or where there is a subcontract to perform such services as VA may deem practicable for the purposes of laws administered by VA, in order for the contractor or subcontractor to perform the services of the contract or agreement. Routine use 18 was added to allow for the disclosure of information in this system to other Federal agencies to assist such agencies in preventing and detecting possible fraud or abuse by individuals in their operations and programs. Routine use 19 was added to allow for the disclosure of information in this system, except the names and mailing addresses of veterans and their dependents, that is relevant to a suspected violation or reasonably imminent violation of law, whether civil, criminal or regulatory in nature and whether arising by general or program statute or by regulation, rule or order issued pursuant thereto, to a Federal, State, local, tribal, or foreign agency charged with the responsibility of investigating or prosecuting such violation, or charged with enforcing or implementing the statute, rule, regulation or order. Routine use 20 was added to allow for the disclosure of information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727. Routine use 21 was added to allow for the disclosure of the name and mailing address of a VA beneficiary, and other information as is reasonably necessary to identify such a beneficiary, who has been adjudicated as incompetent under 38 CFR 3.353, to the Attorney General of the United States or his/her designee, for use by the Department of Justice in the National Instant Criminal Background Check System (NICS) mandated by the Brady Handgun Violence Prevention Act, Public Law 103-159.

Approved: September 10, 2010.
John R. Gingrich,
Chief of Staff, Department of Veterans Affairs.

45VA21

SYSTEM OF RECORD:

“Veterans Assistance Discharge System—VA”

SYSTEM LOCATION:

Records are maintained at the Department of Veterans Affairs (VA) regional offices, VA Medical Centers, the VA Records Management Center, St. Louis, Missouri, and at the Corporate Franchise Data Center in Austin, Texas. Address locations are listed in the VA Appendix 1, located at the end of this document.

CATAGORIES OF INDIVIDUALS COVERED BY THE SYSTEM:

Individuals (veterans only) released from active military service from March 1973, for whom separation documents (i.e., DD Forms 214, 215) were received in the Corporate Franchise Data Center in Austin, Texas.

CATEGORIES OF RECORDS IN THE SYSTEM:

The record, or information contained in the record may include personally identifiable information (PII) and military discharge information. PII may include the following concerning the veteran: Full name, social security number, service number, date of birth. Military discharge information may include the primary military occupational specialty number, entry and release from active duty, character of service, branch of service, and mailing address at the time of discharge, level of education (e.g., high school graduate or equivalent or not high school graduate or equivalent), sex, total amount of active service, the dollar amount of readjustment or severance pay, number of non-paydays, pay grade, narrative reason for separation and whether the veteran was discharged with a disability, served in the Vietnam Conflict, reenlisted in the military service or received a military decoration such as a Purple Heart.

AUTHORITY FOR MAINTENANCE OF THE SYSTEM:

Title 38, United States Code, Chapter 3, section 501(a), (b).

PURPOSE:

This system collects a limited amount of personally identifiable information for the purpose of maintaining records and providing benefits to veterans who file claims for a wide variety of Federal veteran's benefits administered by VA at VA facilities located throughout the United States. See the statutory provisions cited in “Authority for maintenance of the system”. VA gathers or creates these records in order to enable it to administer these statutory benefits programs.

ROUTINE USES OF RECORDS MAINTAINED IN THE SYSTEM, INCLUDING CATEGORIES OF USERS AND THE PURPOSES OF SUCH USES:

1. The record of an individual who is covered by this system may be disclosed to a member of Congress or staff person acting for the member when the member or staff person requests the record on behalf of and at the written request of that individual.

2. Any information in this system may be disclosed to a Federal agency, upon its official request, to the extent that it is relevant and necessary to that agency's decision regarding: The hiring, retention or transfer of an employee; the issuance of a security clearance, the letting of a contract, or the issuance or continuance of a license, grant or other benefit given by that agency. However, in accordance with an agreement with the U.S. Postal Service, disclosures to the U.S. Postal Service for decisions concerning the employment of veterans will only be made with the veteran's prior written consent.

3. Any information in this system may be disclosed to a State or local agency, upon its official request, to the extent that it is relevant and necessary to that agency's decision on: The hiring, transfer or retention of an employee, the issuance of a security clearance, the letting of a contract, or the issuance or continuance of a license, grant or other benefit by that agency; provided, that if the information pertains to a veteran, the name and address of the veteran will not be disclosed unless the name and address is provided first by the requesting State or local agency.

4. Any information in this system may be disclosed to a Federal agency, except for the name and address of a veteran, in order for VA to obtain information relevant to the issuance of a benefit under title 38, United States Code. The name and address of a veteran may be disclosed to a Federal agency under this routine use if they are required by the Federal agency to respond to the VA inquiry.

5. Any information in this system, except for the name and address of a veteran, which is relevant to a suspected violation or reasonably imminent violation of law, whether civil, criminal or regulatory in nature and whether arising by general or program statute or by regulation, rule or order issued pursuant thereto, may be disclosed to a Federal, State, local, tribal, or foreign agency charged with the responsibility of investigating or prosecuting such violation, or charged with enforcing or implementing the statute, rule, regulation or order.

6. The name and address of a veteran, which is relevant to a suspected violation or reasonably imminent violation of law, whether civil, criminal or regulatory in nature and whether arising by general or program statute or by regulation, rule or order issued pursuant thereto, may be disclosed to a Federal agency charged with the responsibility of investigating or prosecuting such violation or charged with enforcing or implementing the statute, regulation, rule or order issued pursuant thereto, in response to its official request.

7. The name and address of a veteran, which is relevant to a suspected violation or reasonably imminent violation of law concerning public health or safety, whether civil, criminal or regulatory in nature and whether arising by general or program statute or by regulation, rule or order issued pursuant thereto, may be disclosed to any foreign State or local governmental agency or instrumentality charged under applicable law with the protection of the public health or safety if a qualified representative of such organization, agency or instrumentality has made a written request that such name and address be provided for a purpose authorized by law.

8. Any information, including name and address of a veteran, may be disclosed to any nonprofit organization if the release is directly connected with the conduct of programs and the utilization of benefits under title 38, United States Code (such disclosures include computerized lists of names and addresses).

9. A listing of names and addresses of educationally disadvantaged veterans residing in a specific geographic area may be disclosed to VA-approved nonprofit educational facilities in order to aid these facilities in VA outreach programs by permitting direct contact with the educationally disadvantaged veteran.

10. Identifying information may be disclosed at the request of the veteran to accredited service organization representatives, VA-approved claims agents and attorneys acting under a declaration of representation so that these individuals can aid veterans in the preparation, presentation, and prosecution of claims under the laws administered by VA. The name and address of a veteran will not, however, be disclosed to these individuals if the veteran has not requested the assistance of an accredited service organization, claims agent or an attorney.

11. The names and addresses and military discharge information (e.g., job-related information regarding veterans with a certain primary occupational specialty number) may be disclosed upon official request to the Departments of Justice, Labor and to the Department of Health and Human Services, Operation Military Experience Directed Into Health Careers (MEDIHC) State coordinators. These disclosures help veterans who were trained in health and other skills while in the military to learn of career opportunities.

12. Any information in this system of records may be disclosed to the Department of Defense Manpower Data Center, upon its official request, for statistical compilation of information contained on the separation documents issued by the Department of Defense. Veterans' addresses that are contained in this system of records may be disclosed to the Department of Defense Manpower Data Center, upon its official request, for military recruiting command needs: Department of Defense civilian personnel offices' mobilization studies and mobilization information, debt collection, and Individual Ready Reserve (IRR) Units' locator services.

13. The name, address, date of birth and other identifying data, including social security numbers, of a male veteran covered by this system may be released to the Selective Service System for the purpose of identifying men who served on active military duty, but failed to register with the Selective Service System upon separation or discharge from the service; providing the current addresses of veterans; correcting or supplementing the data which the Selective Service System receives from Department of Defense separation points; and ensuring the proper classification of veterans for induction purposes in the event of a return to the draft. These records may also be disclosed as part of an ongoing computer matching program to accomplish these purposes.

14. Identifying information from this system of records, including name, mailing address, service discharge date, social security number, date of birth, service branch, gender, disability status, pay grade, educational level, date of enlistment and the amount of Servicemen's Group Life Insurance coverage carried at the time of discharge may be disclosed to the Office of Servicemen's Group Life Insurance for the purposes of soliciting applications for life insurance coverage under the Veteran's Group Life Insurance program.

15. Disclosure may be made to the National Archives and Records (NARA) Administration and the General Services Administration (GSA) in records management inspections conducted under authority of chapter 29 of title 44, United States Code.

16. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its on initiative, may disclose records in this system of records in legal proceedings before a court or administrative body after determining that the disclosure of records to the court or administrative body is a use of the information contained in the records that is compatible with the purpose for which VA collected the records.

17. Disclosure of relevant information may be made to individuals, organizations, public or private agencies, or other entities with whom VA has a contract or agreement or where there is a subcontract to perform such services as VA may deem practicable for the purposes of laws administered by VA, in order for the contractor or subcontractor to perform the services of the contract or agreement.

18. Disclosure to other Federal agencies may be made to assist such agencies in preventing and detecting possible fraud or abuse by individuals in their operations and programs.

19. VA may disclose on its own initiative any information in this system, except the names and mailing addresses of veterans and their dependents, that is relevant to a suspected violation or reasonably imminent violation of law, whether civil, criminal or regulatory in nature and whether arising by general or program statute or by regulation, rule or order issued pursuant thereto, to a Federal, State, local, tribal, or foreign agency charged with the responsibility of investigating or prosecuting such violation, or charged with enforcing or implementing the statute, rule, regulation or order.

20. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out the VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

21. The name and mailing address of a VA beneficiary, and other information as is reasonably necessary to identify such a beneficiary, who has been adjudicated as incompetent under 38 CFR 3.353, may be provided to the Attorney General of the United States or his/her designee, for use by the Department of Justice in the National Instant Criminal Background Check System (NICS) mandated by the Brady Handgun Violence Prevention Act, Public Law 103-159.

POLICIES AND PRACTICES FOR STORING, RETRIEVING, ACCESSING, RETAINING, AND DISPOSING OF RECORDS IN THE SYSTEM:

STORAGE:

Records (or information contained in records) are maintained on paper documents in claims folders (C-folders), vocational rehabilitation folders, electronic file folders (e.g., Virtual VA and TIMS File), and on automated storage media (e.g., microfilm, microfiche, magnetic tape and disks). Such information may be accessed through data telecommunication terminal systems designated the Benefits Delivery Network (BDN), Virtual VA and Veterans Service Network (VETSNET). BDN, Virtual VA and VETSNET terminal locations include VA Central Office, regional offices, VA health care facilities, and Veterans Integrated Service Network (VISN) offices. Remote on-line access is also made available to authorized remote sites, representatives of claimants and to attorneys of record for claimants. A VA claimant must execute a prior written consent or a power of attorney authorizing access to his or her claims records before VA will allow the representative or attorney to have access to the claimant's automated claims records. Access by representatives and attorneys of record is to be used solely for the purpose of assisting an individual claimant whose records are accessed in a claim for benefits administered by VA.

RETRIEVABILITY:

Information is retrievable by the use of name only; name and one or more numbers (service, social security, VA claims file, and VA insurance file); name and one or more criteria (e.g., date of birth, death and service); VA file number only; or initials or first five letters of the last name and VA file number.

SAFEGUARDS:

Access to the basic file in the Corporate Franchise Data Center in Austin, Texas is restricted to authorized VA employees and vendors. Access to working spaces and claims folder file storage areas in VA regional offices and centers is restricted to VA employees who have a need-to-know for the performance of their official duties associated with providing veterans benefits. Generally, file areas are locked after normal duty hours and the offices and centers are protected from outside access by the Federal Protective Service or other security personnel. Access to BDN, Virtual VA and VETSNET data telecommunication networks are by authorization controlled by the site security officer who is responsible for authorizing access to the BDN, Virtual VA and VETSNET by a claimant's representative or attorney approved for access in accordance with VA regulations. The site security officer is responsible for ensuring that the hardware, software and security practices of a representative or attorney satisfy VA security requirements before granting access. The security requirements applicable to the access of automated claims files by VA employees also apply to the access of automated claims files by claimants' representatives or attorneys. The security officer is assigned responsibility for implementing and enforcing privacy-security measures, especially for review of violation logs, information logs and control of password distribution, including password distribution for claimants' representatives.

RENTENTION AND DISPOSAL:

Records are maintained on magnetic tape, disks and microfiche and are retained and disposed of in accordance with disposition and authorization approved by the National Archives and Records Administration.

SYSTEM MANAGER(S) AND ADDRESS:

Director, Compensation and Pension Service (21), VA Central Office, 810 Vermont Avenue NW., Washington, DC 20420.

NOTIFICATION PROCEDURE:

An individual who wishes to determine whether a record is being maintained in this system under his or her name or other personal identifier, or wants to determine the contents of such record, should submit a written request or apply in person to the Director, Administrative Service (23), VA Central Office, 810 Vermont Avenue NW., Washington, DC 20420. Inquiries should include the individual's full name and social security number to ensure that the information is shared with the correct individual.

RECORD ACCESS PROCEDURES:

Individuals seeking information regarding access to and contesting of VA records in this system may write, call or visit the nearest VA regional office.

CONTESTING RECORD PROCEDURES:

See Record access procedures above.

RECORD SOURCE CATEGORIES:

The Department of Defense, which provides copies to VA of DD Form 214, Certificate of Release or Discharge from Active Duty, DD Form 215, Correction to DD Form 214; U.S. Public Health Service, which provides copies to VA of PHS-1867, Statement of Service Verification of Status of Commissioned Officers of the U.S. PHS; and the National Oceanic and Atmospheric Administration, which provides VA with copies of ESSA Form 56-16, Report of Separation Discharge.

Appendix 1:

Department of Veterans Affairs Regional Offices and Centers

Alabama AL

VA Regional Office, 345 Perry Hill Rd., Montgomery, Alabama 36109.

Alaska AK

VA Regional Office, 1201 N Muldoon Rd., Anchorage 99504.

Arizona AZ

VA Regional Office, 3333 North Central Ave., Phoenix, Arizona 85012.

Arkansas AR

VA Regional Office, 2200 Fort Roots Dr., Bldg. 65, North Little Rock, Arkansas 72144.

California CA

VA Regional Office, Federal Bldg., 11000 Wilshire Blvd., Los Angeles, California 90024.

VA Regional Office, 1301 Clay St., Rm. 1300 North, Oakland, California 94612.

VA Regional Office, 8810 Rio San Diego Dr., San Diego, California 92108.

Colorado CO

VA Regional Office, 155 Van Gordon St., Lakewood, Colorado 80228.

Connecticut CT

VA Regional Office, 555 Willard Ave., Newington, Connecticut 06111.

Delaware DE

VA Regional Office, 1601 Kirkwood Hwy., Wilmington, Delaware 19805.

District of Columbia DC

VA Regional Office, 1722 I St., NW., Washington, DC 20421.

VA Central Office, 810 Vermont Ave., NW., Washington, DC 20420.

Florida FL

VA Regional Office, 9500 Bay Pines Blvd., St. Petersburg, Florida 33708.

Georgia GA

VA Regional Office, 1700 Clairmont Rd., Decatur, Georgia 30033.

Hawaii HI

VA Regional Office, 459 Patterson Rd., E-Wing, Honolulu, Hawaii 96819.

Idaho ID

VA Regional Office, 444 W. Fort St., Boise, Idaho 83702.

Illinois IL

VA Regional Office, 2122 W. Taylor St., Chicago, Illinois 60612.

Indiana IN

VA Regional Office, 575 N. Pennsylvania St., Indianapolis, Indiana 46204.

Iowa IA

VA Regional Office, 210 Walnut St., Des Moines, Iowa 50309.

Kansas KS

VA Regional Office, 5500 E. Kellogg Ave., Wichita, Kansas 67128.

Kentucky KY

VA Regional Office, 321 W. Main St., Ste. 390, Louisville, Kentucky 40202.

Louisiana LA

VA Regional Office, 1250 Poydras St., New Orleans, Louisiana 70056.

Maine ME

VA Regional Office, One VA Center, Augusta, Maine 04330.

Maryland MD

VA Regional Office, Federal Bldg., 31 Hopkins Plaza, Baltimore, Maryland 21201.

Massachusetts MA

VA Regional Office, John Fitzgerald Kennedy Federal Bldg., Government Center, Boston, Massachusetts 02203.

Michigan MI

VA Regional Office, Patrick V. McNamara Federal Bldg., 477 Michigan Ave., Rm. 1400, Detroit, Michigan 48226.

Minnesota MN

VA Regional Office, Bishop Henry Whipple Federal Bldg., 1 Federal Dr., Fort Snelling, St. Paul, Minnesota 55111.

Mississippi MS

VA Regional Office, 1600 East Woodrow Wilson Ave., Jackson, Mississippi 39216.

Missouri MO

VA Regional Office, 400 South 18th St., St. Louis, Missouri 63103.

Montana MT

VA Regional Office, 3633 Veterans Dr., Fort Harrison, Montana 59636.

Nebraska NE

VA Regional Office, 5631 S. 48th St., Lincoln, Nebraska 68516.

Nevada NV

VA Regional Office, 5460 Reno Corporate Dr., Reno, Nevada 89511.

VA Benefits Office, 4800 Alpine Pl., Suite 12, Las Vegas, Nevada 89107.

New Hampshire NH

VA Regional Office, Norris Cotton Federal Bldg., 275 Chestnut St., Manchester, New Hampshire 03101.

New Jersey NJ

VA Regional Office, 20 Washington Place, Newark, New Jersey 07120.

New Mexico NM

VA Regional Office, Dennis Chavez Federal Bldg., 500 Gold Ave., SW., Albuquerque, New Mexico 87102.

New York NY

VA Regional Office, 245 W. Houston St., New York, New York 10014.

VA Regional Office, Niagra Center, 130 S. Elmwood Ave., Buffalo, New York 14202.

North Carolina NC

VA Regional Office, Federal Office Building, 251 North Main Street, Winston-Salem, North Carolina 27155.

North Dakota ND

VA Regional Office, 2101 Elm St., Fargo, North Dakota 58102.

Ohio OH

VA Regional Office, Anthony J. Celebreeze Federal Office Bldg., 1240 East Ninth St., Cleveland, Ohio 44199.

Oklahoma OK

VA Regional Office, 125 South Main St., Muskogee, Oklahoma 74401.

Oregon OR

VA Regional Office, Edith Green/Wendell Wyatt Federal Building, 1220 SW. Third Ave., Portland, Oregon 97204.

Pennsylvania PA

VA Regional Office, 1000 Liberty Ave., Pittsburgh, Pennsylvania 15222.

VA Regional Office and Insurance Center, 5000 Wissahickon Ave., Philadelphia, Pennsylvania 19101.

Philippines

VA Regional Office and Outpatient Clinic, 1131 Roxas Blvd., Manila, Philippines; MAILING ADDRESS from U.S.: VA Regional Office, PSC 501, DPO AP 96515-1100.

Puerto Rico, Commonwealth of (including the Virgin Islands)

VA Regional Office, 150 Carlos Chardon Ave., Suite 300, San Juan, Puerto Rico 00918.

Rhode Island RI

VA Regional Office, 380 Westminster Street, Providence, Rhode Island 02903.

South Carolina SC

VA Regional Office, 6437 Garners Ferry Rd., Columbia, South Carolina 29201.

South Dakota SD

VA Regional Office, P.O. Box 5046, 2501 W. 22nd St., Sioux Falls, South Dakota 57105.

Tennessee TN

VA Regional Office, 110 9th Ave. South, Nashville, Tennessee 37203.

Texas TX

VA Regional Office, 6900 Almeda Rd., Houston, Texas 77030.

VA Regional Office, One Veterans Plaza, 701 Clay Ave., Waco, Texas 76799.

Utah UT

VA Regional Office, 550 Foothill Drive, Salt Lake City, Utah 84148.

Vermont VT

VA Regional Office, 215 North Main Street, White River Junction, Vermont 05001.

Virginia VA

VA Regional Office, 210 Franklin Rd., SW, Roanoke, Virginia 24011.

Washington WA

VA Regional Office, Federal Bldg., 915 Second Ave., Seattle, Washington 98174.

West Virginia WV

VA Regional Office, 640 4th Ave., Huntington, West Virginia 25701.

Wisconsin WI

VA Regional Office, 5400 W. National Ave., Milwaukee, Wisconsin 53214.

Wyoming WY

VA Regional Office and Medical Center, 2360 East Pershing Blvd., Cheyenne, Wyoming 82001.

[FR Doc. 2010-25233 Filed 10-5-10; 8:45 am]

BILLING CODE P